FEDERAL MARITIME COMMISSION

Ocean Transportation Intermediary License Revocations and Terminations

The Commission gives notice that the following Ocean Transportation Intermediary licenses have been revoked or terminated for the reason shown pursuant to section 19 of the Shipping Act of 1984 (46 U.S.C. 40101) effective on the date shown.

License No.: 003009N.

Name: Super Freight International, Inc.

Address: 650 N. Edgewood Avenue, Wood Dale, IL 60191.

Date Revoked: October 4, 2013.

Reason: Failed to maintain a valid bond.

License No.: 3163F.

Name: DVS International, Inc.

Address: 8150 NW 71st Street, Miami, FL 33166.

Date Revoked: October 10, 2013.

Reason: Failed to maintain a valid bond.

License No.: 7952N.

Name: Freight Line of the Americas, Inc.

Address: 9115 NW 105th Circle, Medley, FL 33178.

Date Revoked: September 20, 2013.

Reason: Failed to maintain a valid bond.

License No.: 017531F.

Name: New York Logistic Services, Inc.

Address: 1308 Merrywood Drive, Edison, NJ 08817.

Date Revoked: September 13, 2013.

Reason: Failed to maintain a valid bond.

License No.: 17895NF.

Name: Maritime International, Inc. dba Trade Link.

Address: 5000 Business Center Drive, Suite 300, Savannah, GA 31405.

Date Revoked: September 27, 2013.

Reason: Voluntary surrender of license.

License No.: 020224F.

Name: Sunshine Service International, Inc.

Address: 147-35 183rd Street, Suite 203, Jamaica, NY 11413.

Date Revoked: September 5, 2013.

Reason: Failed to maintain a valid bond.

License No.: 021817N.

Name: Bring Logistics US, Inc.

Address: 4500 North Sam Houston Pkwy., Suite 130, Houston, TX 77086.

Date Revoked: September 19, 2013.

Reason: Failed to maintain a valid bond.

License No.: 021817F.

Name: Bring Logistics US, Inc.

Address: 4500 North Sam Houston Pkwy., Suite 130, Houston, TX 77086.

Date Revoked: September 26, 2013.

Reason: Failed to maintain a valid bond.

License No.: 021971NF.

Name: CMX Global Freight Services, Inc.

Address: 5353 W. Imperial Hwy., Suite 200, Los Angeles, CA 90045.

Date Revoked: September 16, 2013.

Reason: Voluntary surrender of license.

License No.: 022001NF.

Name: Encompass Global Logistics, LLC.

Address: 18881 Von Karman Avenue, Suite 1450, Irvine, CA 92612.

Date Revoked: September 20, 2013.

Reason: Failed to maintain valid bonds.

;

License No.: 022367N.

Name: Blue Ocean Logistics Corporation dba B.O. Logistic Corp.

Address: 2461 West 205th Street, Unit B-105, Torrance, CA 90501.

Date Revoked: September 5, 2013.

Reason: Failed to maintain a valid bond.

License No.: 023372N.

Name: DS International Corporation.

Address: 315 Harbor Way, South San Francisco, CA 94080.

Date Revoked: September 20, 2013.

Reason: Failed to maintain a valid bond.

License No.: 023736N.

Name: Global Tradewinds NVOCC, Inc.

Address: 3532 Katela Avenue, Suite 227, Los Alamitos, CA 90720.

Date Revoked: September 16, 2013.

Reason: Failed to maintain a valid bond.

License No.: 023886N.

Name: Contrans Cargo Inc.

Address: 831 S. Lemon Avenue, Unit A11F, Walnut, CA 91789.

Date Revoked: September 27, 2013.

Reason: Failed to maintain a valid bond.

James A. Nussbaumer,
Deputy Director, Bureau of Certification and Licensing.

[FR Doc. 2013-28519 Filed 11-27-13; 8:45 am]

BILLING CODE 6730-01-P